DEPARTMENT OF TRANSPORTATION

National Highway Traffic Safety Administration

[Docket No. NHTSA-2017-0096]

Reports, Forms, and Recordkeeping Requirements: Agency Information Collection Activity

AGENCY: National Highway Traffic Safety Administration, U.S. Department of Transportation.

ACTION: Request for public comment on a proposed collection of information.

SUMMARY: Before a Federal agency can collect certain information from the public, it must receive approval from the Office of Management and Budget (OMB). Under procedures established by the Paperwork Reduction Act of 1995, before seeking OMB approval, Federal agencies must solicit public comment on proposed collections of information, including extensions and reinstatements of previously approved collections. This document describes one collection of information for which the National Highway Traffic Safety Administration (NHTSA) intends to seek OMB approval.

DATES: Written comments should be submitted by January 26, 2018.

ADDRESSES: You may submit comments identified by Docket No. NHTSA-2017-0096 through one of the following methods:

• Federal eRulemaking Portal: Go to http://www.regulations.gov. Follow the online instructions for submitting comments.

• Mail or Hand Delivery: Docket Management Facility, U.S. Department of Transportation, 1200 New Jersey Avenue SE., West Building, Ground Floor, Room W12-140, Washington, DC 20590 between 9 a.m. and 5 p.m. Eastern Time, Monday through Friday, except Federal holidays. Telephone: 202-366-9826.

• Fax: 202-493-2251.

Instructions: All submissions must include the agency name and docket number for this proposed collection of information. Note that all comments received will be posted without change to http://www.regulations.gov, including any personal information provided. Please see the Privacy heading below.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78) or you may visit http://www.dot.gov/privacy.html.

Docket: For access to the docket to read comments received, go to http://www.regulations.gov, or the street address listed above. Follow the online instructions for accessing the dockets.

FOR FURTHER INFORMATION CONTACT: For programmatic issues, contact Barbara Sauers, Regional Operations and Program Delivery, NRO-011, National Highway Traffic Safety Administration, U.S. Department of Transportation, 1200 New Jersey Avenue SE., Washington, DC 20590; Telephone: 202-366-0144. For legal issues and background information, contact Roland (R.T.) Baumann III, Office of the Chief Counsel, NCC-300, National Highway Traffic Safety Administration, U.S. Department of Transportation, 1200 New Jersey Avenue SE., Washington, DC 20590; Telephone: 202-366-1834.

SUPPLEMENTARY INFORMATION: Under the Paperwork Reduction Act of 1995, before an agency submits a proposed collection of information to OMB for approval, it must first publish a document in the Federal Register providing a 60-day comment period and otherwise consult with members of the public and affected agencies concerning each proposed collection of information. OMB has promulgated regulations describing what must be included in such a document. Under OMB's regulation (at 5 CFR 1320.8(d)), an agency must ask for public comment on the following:

(i) Whether the proposed collection of information is necessary for the proper performance of the functions of the agency, including whether the information will have practical utility;

(ii) The accuracy of the agency's estimate of the burden of the proposed collection of information, including the validity of the methodology and assumptions used;

(iii) How to enhance the quality, utility, and clarity of the information to be collected;

(iv) How to minimize the burden of the collection of information on those who are to respond, including the use of appropriate automated, electronic, mechanical, or other technological collection techniques or other forms of information technology, e.g., permitting electronic submission of responses.

The agency will summarize and/or include your comments in the request for OMB's clearance of this information collection.

In compliance with these requirements, NHTSA asks for public comments on the following proposed collection of information for which the agency is seeking approval from OMB:

OMB Control Number: Not assigned.

Title: State Highway Safety Grant Programs.

Form Numbers: N/A (Highway Safety Plan, Annual Report, Assessment).

Type of Review: New Collection.

Requested Expiration Date of Approval: Three years from the approval date.

Summary of the Collection of Information: The Fixing America's Surface Transportation Act (FAST), Public Law 114-94, authorizes the National Highway Traffic Safety Administration (NHTSA) to issue highway safety grants to States under Chapter 4 of Title 23, U.S.C. Specifically, these grant programs include the Highway Safety Program grants (23 U.S.C. 402 or Section 402), the National Priority Safety Program grants (23 U.S.C. 405 or Section 405) and a separate grant on racial profiling data collection contained in a previous authorization that was revised and restored under the FAST Act (Pub. L. 109-59, Sec. 1906 or Section 1906, as amended by Sec. 4011, Pub. L. 114-94).

For all of these grants, as directed in statute, NHTSA uses a consolidated application process that relies on the Highway Safety Plan (HSP) States submit under the Section 402 program as a single application. The information required to be submitted for these grants includes the HSP consisting of information on the highway safety planning process, performance report, performance plan, problem identification, highway safety countermeasure strategies, projects and funding amounts, certifications and assurances, and application materials that cover Section 405 grants and the reauthorized Section 1906 grant.¹ States also must submit an annual report evaluating their progress in achieving performance targets. In addition, as part of the statutory criteria for Section 405 grants covering the areas of occupant protection, traffic safety information system improvement and impaired driving countermeasures, States may be required to receive assessments of their State programs in order to receive a grant.² States must provide information and respond to questions as part of the assessment process.

¹ Section 405 grants cover the following: Occupant Protection Grants; State Traffic Safety Information System Improvements Grants; Impaired Driving Countermeasures Grants (including Alcohol-Ignition Interlock Grants and 24-7 Sobriety Program Grants); Distracted Driving Grants; Motorcyclist Safety Grants; State Graduated Driver Licensing Incentive Grants; and Nonmotorized Safety Grants. Section 1906 is a separate racial profiling data collection grant.

² Under occupant protection grants, one of the criterion that a State with a lower belt use rate may use to get a grant is to complete an assessment of its occupant protection program once every three years (23 U.S.C. 405(b)(3)(B)(ii)(VI)(aa)); and another criterion is a comprehensive occupant protection program that includes a program assessment conducted every five years as one of its elements (23 U.S.C. 405(b)(3)(B)(ii)(V)(aa); 23 CFR 1300.21(e)(5)(i)). Under traffic safety system information system improvement grants, a State must have an assessment of its highway safety data and traffic records system once every 5 years in order to receive a grant (23 U.S.C. 405(c)(3)(E)). Under impaired driving countermeasure grants, a State with high average impaired driving fatality rates must have an assessment of its impaired driving program once every 3 years in order to receive a grant. (23 U.S.C. 405(d)(3)(C)(i)(I)).

Consistent with the statute, NHTSA has implemented an interim final rule that creates uniform procedures for States to apply for grant funds (81 FR 32554, May 23, 2016), and will issue a final rule in the near future. These procedures specify the information that is required to be submitted to receive a grant and the type of information required to verify performance under the grants. Under these efforts, NHTSA has taken actions to streamline the required application procedures, including the expanded use of an electronic submission process identified as the Grants Management Solutions Suite (GMSS). This system will replace the current grants management tracking system and allows States to apply for and receive grants electronically. NHTSA plans to introduce an updated version of GMSS for fiscal year 2019. Implementation will occur after several participating States have completed system usability testing, and NHTSA has reviewed and considered any feedback provided.

As indicated above, States may be required to receive an assessment of certain covered programs in order to be eligible for some grants under Section 405. Separate from these requirements, States also may request assessments in these areas at their discretion. NHTSA uses two different assessment approaches based on the traffic safety area covered. For occupant protection and impaired driving, assessments are based on NHTSA's Uniform Guidelines for State Highway Safety Programs, which are required by Congress and periodically updated through a process that seeks public comment.³ State programs are assessed against these uniform guidelines by a team of subject matter experts. The assessment team produces a final report with recommendations on how the State can improve the effectiveness of its program. As part of the process, States provide written materials in response to requests from the assessment team and participate in a comprehensive interview process. For traffic safety information systems, States respond to questions based on NHTSA's Traffic Records Program Assessment Advisory (DOT HS 811 644), which describes an ideal traffic records system. The questions cover nine topical areas and examine how well a State plans, collects, manages, and integrates information from several State traffic records systems.⁴ Responses are evaluated by subject matter experts, and a final report is provided to the State with recommendations for improvement.

³ The Uniform Guidelines for State Highway Safety Programs are available online at https://one.nhtsa.gov/nhtsa/whatsup/tea21/tea21programs/index.htm.

⁴ The Traffic Records Program Assessment Advisory is available online at https://www.nhtsa.gov/research-data/traffic-records.

Description of the Need for the Information and Proposed Use of the Information: As noted above, the statute provides that the HSP is the application for grants each fiscal year. The information is necessary to determine whether a State satisfies the Federal criteria for grant awards. The annual report tracks progress in achieving the aims of the grant program. The information is necessary to verify performance under the grants and to provide a basis for improvement. As specified in statute, States may be required to receive an assessment of certain covered programs. The information provided by a State allows subject matter experts to provide recommendations for the purpose of improving the covered areas.

Description of the Likely Respondents: 57 Respondents (fifty States, the District of Columbia, Puerto Rico, American Samoa, Guam, the Commonwealth of the Northern Mariana Islands, the U.S. Virgin Islands, and the Bureau of Indian Affairs on behalf of the Indian Country).

Estimate of the Total Annual Reporting and Recordkeeping Burden Resulting From the Collection of Information: ⁵ The estimated burden hours for the grant application and annual report part of the collection of information are based on all eligible respondents each year for each of the grants:

⁵ As noted later, the total number of respondents is based on every eligible respondent submitting the required information for every available grant.

• Section 402 grants: 57 (fifty States, the District of Columbia, Puerto Rico, the U.S. Virgin Islands, Guam, American Samoa, the Commonwealth of the Northern Mariana Islands, and the Bureau of Indian Affairs);

• Section 405 Grants (except Impaired Driving Countermeasures, Motorcyclist Safety and Nonmotorized Grants) and Section 1906 Grant: 56 (fifty States, the District of Columbia, Puerto Rico, the U.S. Virgin Islands, Guam, American Samoa, and the Commonwealth of the Northern Mariana Islands); and

• Section 405, Impaired Driving Countermeasures, Motorcyclist Safety and Nonmotorized Grants: 52 (fifty States, the District of Columbia, and Puerto Rico).

The estimated burden hours for the assessment part of the collection of information are based on the average number of State assessments that are carried out each year in each of the covered grant areas: ⁶

⁶ Assessment average is based on the total number of assessments conducted each year and divided by the number of years since the inception of assessment requirements for certain grants under MAP-21, Public Law 112-141.

• Section 405, Occupant protection grants: 9 assessments;

• Section 405, Traffic safety information system improvement grants: 11 assessments; and

• Section 405, Impaired driving countermeasure grants: 4 assessments.

Under the grant application and annual report requirements, we estimate that it will take each respondent approximately 240 hours to collect, review and submit the required information to NHTSA for the Section 402 program. We further estimate that it will take each respondent approximately 180 hours to collect, review and submit the required information to NHTSA for the Section 405 program. For traffic safety information system improvement grants, we estimate that it takes 165 hours to respond to questions under the assessment. For occupant protection and impaired driving countermeasures grants, we estimate that it takes 80 hours to provide the required information and respond to questions under an assessment. Based on the above information, the estimated annual burden hours for all respondents are 26,615 hours.

Assuming the average salary of individuals responsible for submitting the information is $50.00 per hour, the estimated cost for each respondent is $23,350 and the estimated total cost for all respondents is $1,330,750.⁷ These estimates are based on every eligible respondent submitting the required information for every available grant. However, not all States apply for and receive a grant each year under each of these programs. In addition, under Section 405 grants, some requirements permit States to submit a single application covering multiple years allowing States to simply recertify in subsequent years. Considering the agency's steps to streamline the current submission process, including increased use of prepopulated information fields in GMSS and greater reliance on electronic submission in general, these estimates represent the highest possible burden hours and costs possible for States submitting the required information.

⁷ Per hour costs are estimated based on the costs paid to fund positions within State highway safety offices and represent an average across several positions that a State might use to collect and submit grant application information.

Please submit any comments, identified by the docket number in the heading of this document, by any of the methods described in the ADDRESSES section of this document. Comments are due by January 26, 2018.

Authority: The Paperwork Reduction Act of 1995, 44. U.S.C. Chapter 35, as amended; 5 CFR part 1320; and 49 CFR 1.95.

Issued in Washington, DC on November 20, 2017.
Mary D. Gunnels,
Associate Administrator for Regional Operations and Program Delivery.

[FR Doc. 2017-25563 Filed 11-24-17; 8:45 am]

BILLING CODE 4910-59-P